FEDERAL MARITIME COMMISSION

Notice of Agreement(s) Filed

The Commission hereby gives notice of the filing of the following agreement(s) under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 011284-052.

Title: Ocean Carrier Equipment Management Association.

Parties: APL Co. PTE Ltd; American President Lines Ltd; A.P. Moller-Maersk Sealand; CMA CGM, S.A.; Compania Sud Americana de Vapores, S.A.; Evergreen Marine Corp. (Taiwan) Ltd.; Hanjin Shipping Co., Ltd.; Hamburg-Südamerikanische Dampfschifffahrtgesellschaft KG; Hapag-Lloyd Container Linie GmbH; Hyundai Merchant Marine Co., Ltd.; Mitsui O.S.K. Lines, Ltd.; Lykes Lines Limited, LLC; TMM Lines Limited, LLC; Contship Container Lines, a division of CP Ships (UK) Limited; Australia-New Zealand Direct Line, a division of CP Ships (UK) Limited; Orient Overseas Container Line Limited; P&O Nedlloyd B.V.; P&O Nedlloyd Limited; Nippon Yusen Kaisha Line; Yangming Marine Transport Corp.; COSCO Container Lines Company Limited; and Kawasaki Kisen Kaisha, Ltd.

Synopsis: The amendment adds Crowley Maritime Corporation to the membership of the agreement.

Agreement No.: 011510-018.

Title: West African Discussion Agreement.

Parties: A.P. Moller-Maersk Sealand, Atlantic Bulk Carriers, HUAL AS, Mediterranean Shipping Company, P&O Nedlloyd Limited, Safmarine Container Lines, and Zim Israel Navigation Company.

Synopsis: The modification removes Mediterranean Shipping Company as a party to the agreement.

Agreement No.: 011733-008.

Title: Common Ocean Carrier Platform Agreement (INTTRA).

Parties: A.P. Moller-Maersk Sealand, P&O Nedlloyd Limited, Hamburg-Südamerikanische Dampfschifffahrtgesellschaft KG, Mediterranean Shipping Company, CMA CGM, Hapag-Lloyd Container Linie, United Arab Shipping Company, Alianca Navegaçao e Logistica Ltda., Safmarine Container Lines, Nippon Yusen Kaisha, and CP Ships Limited for its ocean common carrier subsidiaries.

Synopsis: The modification adds Tasman Orient Line C.V. as a non-shareholder party to the agreement.

Agreement No.: 011770-002.

Title: NSCSA/Oldendorff Slot Exchange Agreement.

Parties: National Shipping Company of Saudi Arabia, Oldendorff Carriers (Indotrans) Ltd.

Synopsis: The proposed modification reduces the scope of the agreement to the westbound trade from ports in India to U.S. East and Gulf Coast ports; revises the amount of space to be chartered; and revises agreement provisions on termination, notices, and force majeure.

Agreement No.: 011799-002.

Title: Evergreen/Lloyd Triestino/Hatsu Marine Alliance—TSA Bridging Agreement.

Parties: Evergreen Marine Corp. (Taiwan) Ltd.; Lloyd Triestino di Navegazione S.p.A.; Hatsu Marine Limited; American President Lines, Ltd. and APL Co. Pte Ltd. (operating as one carrier); A.P. Moller-Maersk Sealand; CMA CGM S.A.; COSCO Container Lines Ltd.; Hanjin Shipping Co., Ltd.; Hapag-Lloyd Container Linie GmbH; Hyundai Merchant Marine Co., Ltd.; Kawasaki Kisen Kaisha, Ltd.; Mitsui O.S.K. Lines, Ltd.; Nippon Yusen Kaisha; Orient Overseas Container Line Limited; P&O Nedlloyd B.V.; P&O Nedlloyd Limited; Yangming Marine Transport Corp.

Synopsis: The proposed amendment would extend the duration of the agreement through August 15, 2004.

Agreement No.: 011802-003.

Title: Evergreen/Lloyd Triestino/Hatsu Marine Alliance—WTSA Bridging Agreement.

Parties: Evergreen Marine Corp. (Taiwan) Ltd.; Lloyd Triestino di Navegazione S.p.A.; Hatsu Marine Limited; American President Lines, Ltd. and APL Co. Pte Ltd. (operating as one carrier); China Shipping Container Lines Co., Ltd.; COSCO Container Lines Ltd.; Hanjin Shipping Co., Ltd.; Hapag-Lloyd Container Linie GmbH; Hyundai Merchant Marine Co., Ltd.; Kawasaki Kisen Kaisha, Ltd.; Mitsui O.S.K. Lines, Ltd.; Nippon Yusen Kaisha; Orient Overseas Container Line Limited; P&O Nedlloyd B.V.; P&O Nedlloyd Limited; Yangming Marine Transport Corp.

Synopsis: The proposed amendment would extend the duration of agreement through August 15, 2004.

Dated: June 13, 2003.
By Order of the Federal Maritime Commission.
Bryant L. VanBrakle,
Secretary.

[FR Doc. 03-15390 Filed 6-17-03; 8:45 am]

BILLING CODE 6730-01-P